DEPARTMENT OF TRANSPORTATION

Federal Aviation Administration

Approval of Noise Compatibility Program; Portland International Airport

AGENCY: Federal Aviation Administration, DOT.

ACTION: Notice.

SUMMARY: The Federal Aviation Administration (FAA) announces its findings on the noise compatibility program submitted by the Portland International Airport under the provisions of 49 U.S.C. (the Aviation Safety and Noise Abatement Act, hereinafter referred to as “the Act”) and 14 CFR part 150. These findings are made in recognition of the description of Federal and nonfederal responsibilities in Senate Report No. 96-52 (1980). On December 13, 2006, the FAA determined that the noise exposure maps submitted by the Portland International Airport under Part 150 were in compliance with applicable requirements. On June 7, 2007, the FAA approved the Portland International Airport noise compatibility program. Most of the recommendations of the program were approved.

DATES: Effective Dates: The effective date of the FAA's approval of the Portland International Airport noise compatibility program is June 7, 2007.

FOR FURTHER INFORMATION CONTACT: Cayla Morgan, Federal Aviation Administration, Seattle Airports District Office, 1601 Lind Ave., SW., Renton, WA 98057-3356, (425) 227-2653. Documents reflecting this FAA action may be reviewed at this same location.

SUPPLEMENTARY INFORMATION: This notice announces that the FAA has given its overall approval to the noise compatibility program for Portland International Airport, effective June 7, 2007.

Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with 14 Code of Federal Regulations (14 CFR) Part 150 is a local program, not a Federal program. The FAA does not substitute its judgment for that of the airport proprietor with respect to which measures should be recommended for action. The FAA's approval or disapproval of 14 CFR Part 150 program recommendations is measured according to the standards expressed in Part 150 and the Act and is limited to the following determinations:

a. The noise compatibility program was developed in accordance with the provisions and procedures of 14 CFR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in 14 CFR part 150, § 150.5. Approval is not a determination concerning the acceptability of land uses under Federal, State, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Seattle Airports District Office in Seattle, Washington. Portland International Airport submitted to the FAA on December 6, 2006, the noise exposure maps, descriptions, and other documentation produced during the noise compatibility planning study conducted from 2001 through 2006. The Portland International Airport noise exposure maps were determined 2001 through 2006. The Portland International Airport noise exposure maps were determined by FAA to be in compliance with applicable requirements on December 13, 2006. Notice of this determination was published in the Federal Register on December 20, 2006 (FR Volume 71, Number 244, pages 76420-76421).

The Portland International Airport study contains a proposed noise compatibility program comprised of actions designed for phased implementation by airport management and adjacent jurisdictions. It was requested that the FAA evaluate and approve this material as a noise compatibility program as described in section 47504 of the Act. The Faa began its review of the program on December 13, 2006, and was required by a provision of the Act to approve or disapprove the program within 180 days (other than the use of new or modified flight procedures for noise control). Failure to approve or disapprove such program within the 180-day period shall be deemed to be an approval of such program.

The submitted program contained ten noise abatement measures, nine noise mitigation/land use compatibility measures, and eight administrative recommendations. The FAA completed its review and determined that the procedural and substantive requirements of the Act and FAR part 150 have been satisfied. The overall program, therefore, was approved by the FAA effective June 7, 2007.

Outright approval was granted for 24 specific program elements. Pursuant to 49 U.S.C. 47504(b), no action was required for Noise Abatement Recommendation 8—Reduced Use of Reverse Thrust on Landing. Noise Mitigation Recommendation 10—Floating Home Sound Proofing was disapproved. The measure was disapproved because FAA is not aware of any published studies on the feasibility of sound attenuating floating homes, and Part 150 is not intended as a means to undertake new research. Administrative Measure 20—Propeller Retrofits was also disapproved because this measure called for the exploration of quiet technology and Part 150 is not intended as a means to undertake new research. Noise Mitigation Measure 12—Investigate Possible Solutions to Reduce Noise Exposure for Residents of Mobile Homes was removed from further consideration by the Port of Portland. Noise Mitigation Measure 18—Noise Disclosures for Prospective Purchasers at or above the 55 DNL Noise Contour was also removed from further consideration by the Port of Portland.

These determinations are set forth, in detail, in a Record of Approval signed by the Airports Division Manager, Northwest Mountain Region on June 7, 2007. The Record of Approval, as well as other evaluation materials and the documents comprising the submittal, including response to public comments, are available for review at the FAA office listed above and at the administrative offices of the Portland International Airport. The Record of Approval also will be available on-line at http://www.faa.gov/arp/enviromental/14cfr150/index14.cfm.

Issued in Renton, Washington on June 11, 2007.
Donna P. Taylor,
Manager, Airports Division, Northwest Mountain Region.

[FR Doc. 07-3070 Filed 6-22-07; 8:45 am]

BILLING CODE 4910-13-M